DEPARTMENT OF HOMELAND SECURITY

Coast Guard

[Docket No. USCG-2020-0172]

Port Access Route Study: Seacoast of New Jersey Including Offshore Approaches to the Delaware Bay, Delaware

AGENCY: Coast Guard, DHS.

ACTION: Notice of study; request for comments.

SUMMARY: The Coast Guard is conducting a Port Access Route Study (PARS) to determine whether existing or additional vessel routing measures are necessary along the seacoast of New Jersey and approaches to the Delaware Bay. The PARS will consider whether existing or additional routing measures are necessary to improve navigation safety due to factors such as planned or potential offshore development, current port capabilities and planned improvements, increased vessel traffic, existing and potential anchorage areas, changing vessel traffic patterns, weather conditions, or navigational difficulty. Vessel routing measures are implemented to reduce the risk of marine casualties. Examples of potential measures include traffic separation schemes, two-way routes, recommended tracks, deep-water routes, precautionary areas, and areas to be avoided. The recommendations of the study may lead to future rulemakings or international agreements.

DATES: Comments and related material must be received on or before July 6, 2020. Requests for a public meeting must be submitted on or before June 4, 2020.

ADDRESSES: You may submit comments identified by docket number USCG-2020-0172 using the Federal eRulemaking Portal http://www.regulations.gov. See the “Public Participation and Request for Comments” portion of the SUPPLEMENTARY INFORMATION section for further instructions on submitting comments.

FOR FURTHER INFORMATION CONTACT: If you have questions about this notice of study, call or email Mr. Jerry Barnes, Fifth Coast Guard District (dpw), U.S. Coast Guard; telephone (757) 398-6230, email Jerry.R.Barnes@uscg.mil; or Mr. Matt Creelman, Fifth Coast Guard District (dpw), U.S. Coast Guard; telephone (757) 398-6225, email Matthew.K.Creelman2@uscg.mil.

SUPPLEMENTARY INFORMATION:

I. Table of Abbreviations

ACPARS Atlantic Coast Port Access Route Study

AIS Automatic Identification System

COMDTINST Commandant Instruction

DHS Department of Homeland Security

EEZ Exclusive Economic Zone

MTS Marine Transportation System

PARS Port Access Route Study

TSS Traffic Separation Scheme

USCG United States Coast Guard

II. Background and Purpose

A. Requirements for Port Access Route Studies: Under Section 70003 of Title 46 of the United States Code, the Commandant of the Coast Guard may designate necessary fairways and traffic separation schemes (TSSs) to provide safe access routes for vessels proceeding to and from U.S. ports. The designation of fairways and TSSs recognizes the paramount right of navigation over all other uses in the designated areas.

Before establishing or adjusting fairways or TSSs, the Coast Guard must conduct a PARS, i.e., a study of potential traffic density and the need for safe access routes for vessels. Through the study process, the Coast Guard must coordinate with federal, state, and foreign state agencies (as appropriate) and consider the views of maritime community representatives, environmental groups, and other interested stakeholders. The primary purpose of this coordination is, to the extent practicable, to reconcile the need for safe access routes with other reasonable waterway uses such as anchorages, construction and operation of renewable energy facilities and other uses.

In addition to aiding the Coast Guard in establishing new or adjusting fairways or TSSs, this PARS may recommend establishing or amending other vessel routing measures. Examples of other routing measures include two-way routes, recommended tracks, deep-water routes (for the benefit primarily of ships whose ability to maneuver is constrained by their draft), precautionary areas (where ships must navigate with particular caution), and areas to be avoided (for reasons of exceptional danger or especially sensitive ecological and environmental factors).

B. Previous Port Access Route Studies: The Coast Guard last studied the Seacoast of New Jersey and approaches to the Delaware Bay in 1994, and published the final results in 1995 (60 FR 49237, September 22, 1995). The study was conducted in response to a number of near collisions and at least one collision between an outbound tug-barge and an inbound deep draft ship in the eastern approach lane of the TSS. The previous study is available for review upon request (refer to FOR FURTHER INFORMATION CONTACT).

In 2016, the Coast Guard published a notice of its Atlantic Coast Port Access Route Study (ACPARS) (81 FR 13307, March 14, 2016) that analyzed the Atlantic Coast waters seaward of existing port approaches within the U.S. Exclusive Economic Zone (EEZ) and announced the report as final in 2017 (82 FR 16510, April 5, 2017). This multiyear study began in 2011, included public participation, and identified the navigation routes customarily followed by ships engaged in commerce between international and domestic U.S. ports. The study is available at https://navcen.uscg.gov/?pageName=PARS Reports. The ACPARS analyzed waters located seaward of existing port approaches within the EEZ along the entire Atlantic Coast. Data and information from stakeholders, including Automatic Identification System (AIS) data from vessel traffic, were used to identify and verify deep draft and coastwise navigation routes that are typically followed by ships engaged in commerce between international and domestic U.S. ports. Additional analysis of sea space for vessels to maneuver in compliance with the International Regulations for Preventing Collisions at Sea led to the development of marine planning guidelines and recommendations for shipping safety fairways.

C. Need for a New Port Access Route Study: In 2019, the Coast Guard announced a new study of routes used by ships to access ports on the Atlantic Coast of the United States (84 FR 9541, March 15, 2019). This new study supplements and builds on the ACPARS. As part of the study, the Coast Guard will conduct several PARS to examine ports along the Atlantic Coast that are economically significant or support military or critical national defense operations and related international entry and departure transit areas that are integral to the safe and efficient and unimpeded flow of commerce to/from major international shipping lanes.

III. Information Requested

The purpose of this notice is to announce commencement of this PARS to examine the seacoast of New Jersey and approaches to the Delaware Bay in conjunction with the implementation of recommendations of the ACPARS, and to solicit public comments. Similar to the ACPARS, this PARS will use AIS data and information from stakeholders to identify and verify customary navigation routes as well as potential conflicts involving alternative activities, such as Offshore Renewable Energy Installations. We encourage you to participate in the study process by submitting comments in response to this notice. Comments should address impacts to navigation along the seacoast of New Jersey and approaches to the Delaware Bay resulting from factors such as: Planned or potential offshore development including wind turbine placements and transmission corridors, current port capabilities and planned improvements, increased vessel traffic, changing vessel traffic patterns, weather conditions, potential conflicts or disruptions in uncharted or informal anchorage areas, or navigational difficulty.

IV. Public Participation and Request for Comments

We encourage you to participate in this study by submitting comments and related materials. All comments received will be posted without change to http://www.regulations.gov and will include any personal information you have provided.

A. Submitting Comments: If you submit comments to the online public docket, please include the docket number for this notice (USCG-2020-0172), indicate the specific section of this document to which each comment applies, and provide a reason for each suggestion or recommendation. We accept anonymous comments.

To submit your comment online, go to http://www.regulations.gov, and insert “USCG-2020-0172” in the “search box.” Click “Search” and then click “Comment Now.” We will consider all comments and material received during the comment period.

B. Public Meetings: The Coast Guard may hold a public meeting(s) if there is sufficient public interest. You must submit a request for one on or before June 4, 2020. You may submit your request for a public meeting online via http://www.regulations.gov. Please explain why you believe a public meeting would be beneficial. If we determine that a public meeting would aid in the study, we will hold a meeting at a time and place announced by a later notice in the Federal Register.

C. Viewing Comments and Documents: To view the comments and documents mentioned in this preamble as being available in the docket, go to http://www.regulations.gov, click on the “read comments” box, which will then become highlighted in blue. In the “Keyword” box insert “USCG-2020-0172” and click “Search.” Click the “Open Docket Folder” in the “Actions” column.

D. Privacy Act: We accept anonymous comments. All comments received will be posted without change to https://www.regulations.gov and will include any personal information you have provided. For more about privacy and submissions in response to this document, see DHS's Correspondence System of Records notice (84 FR 48645, September 26, 2018). Documents mentioned in this notice as being available in the docket, and all public comments, will be in our online docket at https://www.regulations.gov and can be viewed by following that website's instructions. Additionally, if you go to the online docket and sign up for email alerts, you will be notified when comments are posted or a final rule is published.

V. Seacoast of New Jersey Including Offshore Approaches to the Delaware Bay, Delaware PARS: Timeline, Study Area, and Process

The Fifth Coast Guard District and Coast Guard Sector Delaware Bay will conduct this PARS. The study will commence upon publication of this notice and may take 12 months or more to complete.

The study area is described as an area bounded by a line connecting the following geographic positions:

• 74° W 40°18′ N

• 71°16′ W 38°57′ N

• 71°16′ W 38°16′ N

• 75°7′ W 38°16′ N

thence along the coast line back to the origin.

This area extends approximately 175 nautical miles seaward including the offshore area of New Jersey, Delaware, and Maryland used by private, commercial and public vessels transiting to and from these ports. An illustration showing the study area is available in the docket where indicated under ADDRESSES. Additionally, the study area is available for viewing on the Mid-Atlantic Ocean Data Portal at http://portal.midatlanticocean.org/visualize/. See “USCG Proposed Areas and Studies” under the “Maritime” portion of the Data Layers section.

This PARS will analyze navigation routes to/from the seacoast of New Jersey, Delaware, and Maryland including approaches to the Delaware Bayconnecting to the proposed fairways outlined in the ACPARS including international routes to/from the United States. Current capabilities and planned improvements to handle maritime conveyances will be considered. Analyses will be conducted in accordance with COMDTINST 16003.2B, Marine Planning to Operate and Maintain the Marine Transportation System (MTS) and Implement National Policy. Instruction available at https://media.defense.gov/2019/Jul/10/2002155400/-1/-1/0/CI_16003_2B.PDF.

We will publish the results of the PARS in the Federal Register. It is possible that the study may validate the status quo (no additional fairways or routing measures) and conclude that no changes are necessary. It is also possible that the study may recommend one or more changes to address navigational safety and the efficiency of vessel traffic management. The recommendations may lead to future rulemakings or international agreements.

This notice is published under the authority of 5 U.S.C. 552(a).

Dated: Dated: April 28, 2020.
Keith M. Smith,
Rear Admiral, U.S. Coast Guard, Commander, Fifth Coast Guard District.

[FR Doc. 2020-09538 Filed 5-4-20; 8:45 am]

BILLING CODE 9110-04-P